DEPARTMENT OF COMMERCE

International Trade Administration

Architecture Services Trade Mission to Qatar

AGENCY: International Trade Administration, Department of Commerce.

Mission Description

The United States Department of Commerce, International Trade Administration (ITA), with support from the American Institute of Architects (http://www.aia.org), is organizing an executive-led Architecture Services Trade Mission to Qatar, with an optional mission stop in Saudi Arabia, from November 16-19, 2014. The purpose of the mission is to introduce U.S. firms to Saudi Arabia and Qatar's rapidly expanding infrastructure projects, and to assist U.S. companies in pursuing export opportunities in this sector. The mission is designed for U.S. architectural, project management, and design services companies. The mission also will help U.S. companies already doing business in Saudi Arabia and Qatar to increase their footprint and deepen their business interests. Target sectors holding high potential for U.S exporters include: Master planning (regional design—city planning or regional planning, port re-development—design of the walkways, buildings, etc. along the port); hospitals and health care architecture; hospitality; airports/other transportation infrastructure facility architecture; architectural services for mixed-use projects; sports and entertainment; and educational facilities. The optional stop in Riyadh, Saudi Arabia will take place November 16-17, prior to the Doha, Qatar stop. U.S. companies that would like to add the optional stop should indicate this on their application.

The mission will help participating firms and associations/organizations gain market insights, make industry contacts, solidify business strategies, and advance specific projects, with the goal of increasing U.S. architectural services exports. The mission will include market briefings, one-on-one business appointments with pre-screened potential buyers, agents, distributors, industry leaders, and joint venture partners; meetings with state and local government officials (in Qatar only); and networking events. Participating in an official U.S. industry delegation, rather than traveling on their own, will enhance the companies' ability to identify opportunities in Qatar and Saudi Arabia.

The mission will be supported by the American Institute of Architects (AIA) (https://www.aia.org). All U.S. architecture/construction/engineering (ACE) trade associations or organizations are encouraged to apply. The mission is open to all U.S. firms, service providers, and organizations in the ACE sector, whether or not they are members of AIA or any other ACE trade association/organization. Selection criteria for participation, as set out below, apply equally for all applicants.

Commercial Setting

Qatar

The U.S.-Qatar trade relationship is going through a massive transformation. The U.S. posted a trade surplus of nearly $3.7 billion in 2013, with record U.S. exports to Qatar of $5 billion. U.S. exports to Qatar in 2013 established a new record, growing by 38.6% over 2012, when U.S. exports totaled $3.58 billion, the previous record high. U.S. exports to Qatar continued to be strong in early 2014. Despite Qatar's small population (Qatar is a country of only two million people and only 250,000 Qataris), they rank as the fifth largest market in the Middle East and North Africa region, only behind the much larger markets of the UAE, Saudi Arabia, Israel and Egypt. Over the past 3 years exports have grown by 57%.

With Qatar's 2030 Vision to transform itself from a carbon-based economy combined with the award of the 2022 FIFA World Cup, Qatar is spending over $250 billion on physical infrastructure and other developments over the next five years. Projects include the new Hamad International Airport (Phase I just completed, Phase II being planned), the New Doha Port Project (the world's largest greenfield port project), road conversion (conversion of UK-style roundabouts to U.S. road layouts), new rail lines (three subway lines and three light-rail tram systems), new stadiums (between 9-12 to be built), as well as hospitals, schools, commercial and hospitality venues.

Potential meetings may include: Hamad International Airport (Phase II), QRail; the Public Works Authority (Ashghal); Qatar Supreme Committee for Delivery and Legacy (2022 FIFA World Cup); Katara Hospitality; and the Qatar Foundation for Education, Science and Community Development.

Saudi Arabia

Saudi Arabia is the 10th largest trading partner of the United States with bilateral trade of $71 billion in 2013 and also the 19th largest destination for U.S. exports. In 2013, U.S. exports to Saudi Arabia exceeded the $19 billion mark, an increase of 6% from 2012. The Saudi economy—the largest in the Middle East and North Africa region—has been growing at a robust pace. The private sector has been, and is expected to continue to be, the key driver behind stronger non-oil sector growth, with an annual growth rate close to seven percent since 2000. Oil and gas reserves have also generated significant financial liquidity from 2006 to 2013. As a result, there are currently about $960 billion worth of projects planned or under way in Saudi Arabia. Of these, more than $700 billion are megaprojects, or large master planned developments of more than $1 billion, making Saudi Arabia the biggest opportunity in the region for businesses involved in the infrastructure and construction sectors. The revenues from hydrocarbon resources are expected to be sufficient to support planned development spending and private sector growth. The FY2014 budget projects government spending at $219 billion.

Saudi Arabia's architecture, construction and engineering sector remains one of the most important industries in the Kingdom's economy. Prior to 2000, Saudi Arabia utilized traditional architectural design in commercial and residential buildings. However, the country's desire to develop a modern appearance has led to architectural and architectural engineering services demands expanding on average nine percent per annum, which accounted for an estimated $2 billion in 2013. This is particularly evident as Saudi Arabia seeks to move towards stricter building codes, leading towards more energy efficient, green (LEED) and sustainable residential, industrial and commercial infrastructure. U.S. architecture, architectural engineering, and interior design firms will find a comparative advantage in commercial design and in residential development. Saudi Arabia is already looking for U.S. capabilities in assisting in the design and development of 500,000 residential units and multi-use compounds associated with the significant demand for housing. With respect to the approximately 300 five star hotels to be built in the next five to ten years, U.S. companies are also favored for their interior design services. With the push for greater water efficiency and reduction in lost water, many project developers will also need assistance in landscape architecture. With increased spending in education and the building of new centers of learning, U.S. companies will again be poised to benefit. U.S. architecture firms have been the designers of choice on many projects in Saudi Arabia and the future continues to offer significant potential. It is important to note that the Saudi market lends itself to mid-sized and larger U.S. architecture/engineering firms.

Mission Goals

The goals of the Architecture Services Trade Mission are to provide U.S. participants with first-hand market information, and one-on-one meetings with business contacts, including potential partners, so that they can position themselves to enter or expand their presence in the market. As such, the mission will focus on helping U.S. companies obtain market information and establish business and government contacts (please note that for the optional stop in Saudi Arabia, no meetings with Saudi government ministries or officials will be arranged).

The mission will also facilitate first-hand market exposure and access to government decision makers and key private-sector industry contacts, especially potential partners. It will provide opportunities for participants to have policy and regulatory framework discussions in order to advance U.S. architectural sector interests in Qatar. It will provide participants with an opportunity to meet with Qatari architecture trade associations, to foster long-term partnerships, and to share best practices, especially with trade association/organization participants. Mission participants will visit key Qatar development sites to gain direct exposure to the rapid infrastructure and planning changes underway.

In Saudi Arabia, the mission will focus on identifying potential partners and opportunities for U.S. companies to gain a share of the large market in infrastructure products and services. Primary focus will be on matchmaking meetings with potential private sector partners in Saudi Arabia and site visits to some of the key infrastructure projects underway in Riyadh.

Mission Scenario

The optional stop in Riyadh, Saudi Arabia will include briefings by Commercial Service (CS) officers in Saudi Arabia on current political and economic developments as well as upcoming trends. This will be followed by one-on-one meetings between U.S. and Saudi companies. The next day will include site visits in Riyadh. The mission will begin in Doha with a welcome dinner (or related event) on Monday, November 17. On November 18, participants will attend a briefing organized by CS Doha. Then, participants will hear from guest speakers for an overview of doing business in Qatar, upcoming projects, and other topics of interest. Additional planned events include site tours and matchmaking events with ACE potential partners, including briefings on and site visits to current and planned projects in areas such as infrastructure, sports, hospitality, healthcare, and education.

On November 19, mission participants will have the opportunity for additional site visits. In addition to being the largest port in the region, Doha hosts an expanding industrial cluster.

The participants will attend policy, market and commercial briefings by CS and industry experts as well as networking events offering further opportunities to speak with potential distributors, agents, partners and end users. U.S. participants will be counseled before and after the mission by CS staff.

Proposed Timetable

Optional Pre-Mission Stop in Saudi Arabia
Saturday-November 15 | • Arrive in Riyadh.
Sunday-November 16 | • Market briefings from CS and industry experts. • Networking Lunch. • Business-to-Business meetings.
Monday-November 17 | • Site Visits. • Travel to Doha.
Mission—Qatar
Monday-November 17 | • Arrive in Doha. • Welcome Briefing and/or Related Networking Event.
Tuesday-November 18 | • Market briefings from CS and industry experts. • Networking lunch with local industry representatives. • Business-to-Business meetings. • Site Visits.
Wednesday-November 19 | • Meetings with local industry and government officials. • Networking lunch with local industry representatives. • Business-to-Business meetings. • Possible Press Event. • Site Visit. • Mission Officially ends.

Participation Requirements

All parties interested in participating in the trade mission must complete and submit an application package for consideration by the U.S. Department of Commerce. All applicants will be evaluated on their ability to meet certain conditions and best satisfy the selection criteria as outlined below. A minimum of 15 and maximum of 20 firms, service providers and/or trade associations/organizations will be selected from the applicant pool to participate in the Qatar stop. The Riyadh optional stop is limited to 7-10 firms, service providers and/or trade associations/organizations.

Fees and Expenses

After an applicant has been selected to participate in the mission, a payment to the Department of Commerce in the form of a participation fee is required. Upon notification of acceptance to participate, those selected have 5 business days to submit payment or the acceptance may be revoked.

The participation fee for the trade mission to Qatar alone is $2900 for small or medium-sized enterprises (SME) ¹ and $3,000 for large firms and trade associations/organizations. The fee for each additional representative (large firm or SME or trade association/organization) is $750.

¹ An SME is defined as a firm with 500 or fewer employees or that otherwise qualifies as a small business under SBA regulations (see http://www.sba.gov/services/contractingopportunities/sizestandardstopics/index.html). Parent companies, affiliates, and subsidiaries will be considered when determining business size. The dual pricing reflects the Commercial Service's user fee schedule that became effective May 1, 2008 (see http://www.export.gov/newsletter/march2008/initiatives.html for additional information).

The additional participation fee for the Saudi Arabia optional stop is $2000 for small or medium-sized enterprises (SME) ² and an additional $2600 for large firms and trade associations/organizations. The fee for each additional representative (large firm or SME or trade association/organization) to add on the Saudi Arabia optional stop is $350.

² An SME is defined as a firm with 500 or fewer employees or that otherwise qualifies as a small business under SBA regulations (see http://www.sba.gov/services/contractingopportunities/sizestandardstopics/index.html). Parent companies, affiliates, and subsidiaries will be considered when determining business size. The dual pricing reflects the Commercial Service's user fee schedule that became effective May 1, 2008 (see http://www.export.gov/newsletter/march2008/initiatives.html for additional information).

Exclusions

The mission fee does not include any personal travel expenses such as lodging, most meals, local ground transportation (except for transportation to and from meetings, and airport transfers between Riyadh and Doha during the mission), and air transportation. Participants will, however, be able to take advantage of U.S. Government rates for hotel rooms. Visas will be required for both Saudi Arabia and Qatar. Government fees and processing expenses to obtain such visas are also not included in the mission costs. The U.S. Department of Commerce, however, will provide instructions to each participant on the procedures required to obtain necessary business visas.

Conditions for Participation

Applicants must submit a completed and signed mission application and supplemental application materials, including adequate information on their products and/or services, primary market objectives, and goals for participation by August 30, 2014. If the Department of Commerce receives an incomplete application, the Department may either: Reject the application, request additional information/clarification, or take the lack of information into account when evaluating the applications.

Each applicant must also certify that the products and services it seeks to export through the mission are either produced in the United States, or, if not, are marketed under the name of a U.S. firm and have at least fifty-one percent U.S. content by value. In the case of a trade association or organization, the applicant must certify that, for each firm or service provider to be represented by the association/organization, the products and/or services the represented firm or service provider seeks to export are either produced in the United States or, if not, marketed under the name of a U.S. firm and have at least fifty-one percent U.S. content.

We recommend calculating the U.S. content of an ACE service using the following formula:

U.S. content for services = (contract value of the service whether delivered in the U.S. or overseas) minus (aggregate value contributed by non-U.S. or foreign sources (i.e., costs or payments to foreign suppliers/providers/employees not resident in the United States)).

In addition, each applicant must:

• Certify that the products and services that it wishes to market through the mission would be in compliance with U.S. export controls and regulations;

• Certify that it has identified any matter pending before any bureau or office in the Department of Commerce;

• Certify that it has identified any pending litigation (including any administrative proceedings) to which it is a party that involves the Department of Commerce; and

• Sign and submit an agreement that it and its affiliates (1) have not and will not engage in the bribery of foreign officials in connection with a company's/participant's involvement in this mission, and (2) maintain and enforce a policy that prohibits the bribery of foreign officials.

In the case of a trade association/organization, the applicant must certify that each firm or service provider to be represented by the association/organization can make the above certifications.

Selection Criteria for Participation

Targeted mission participants are U.S. firms, services providers and trade associations/organizations providing or promoting ACE services that have an interest in entering or expanding their business in the Qatar market (applicants that would like to add the optional Saudi Arabia stop must meet these criteria for the Saudi Arabia market as well). The following criteria will be evaluated in selecting participants:

• Suitability of a firm's or service provider's (or in the case of a trade association/organization, represented firm or service provider's) products or services to these markets.

• Firm's or service provider's (or in the case of a trade association/organization, represented firm or service provider's) potential for business in the markets, including likelihood of exports resulting from the mission.

• Consistency of the firm's or service provider's (or in the case of a trade association/organization, represented firm or service provider's) goals and objectives with the stated scope of the mission.

Additional factors, such as diversity of company size, type, location, and demographics, may also be considered during the review process.

Referrals from political organizations and any documents, including the application, containing references to partisan political activities (including political contributions) will be removed from an applicant's submission and not considered during the selection process.

Timeframe for Recruitment and Application

Mission recruitment will be conducted in an open and public manner, including publication in the Federal Register, posting on the Commerce Department trade mission calendar (http://www.export.gov/trademissions/) and other Internet Web sites, press releases to general and trade media, direct mail, broadcast fax, notices by industry trade associations and other multiplier groups, and publicity at industry meetings, symposia, conferences, and trade shows.

Recruitment for this mission will begin immediately and conclude no later than August 30, 2014. The U.S. Department of Commerce will review applications and make selection decisions as quickly as possible. Applications received after August 30, 2014 will be considered only if space and scheduling constraints permit.

Contacts

Trade Missions Office, Arica Young, U.S. Department of Commerce, Washington, DC, Tel: 613-317-7538, Email: Arica.Young@trade.gov.

Industry and Analysis, Eugene Alford, U.S. Department of Commerce, Washington, DC 20230, Tel: 202-482-5071, Email: Eugene.Alford@trade.gov.

Elnora Moye,
Trade Program Assistant.

[FR Doc. 2014-17972 Filed 7-29-14; 8:45 am]

BILLING CODE 3510-FP-P